DEPARTMENT OF COMMERCE

International Trade Administration

[A-421-811]

Certain Purified Carboxymethylcellulose from the Netherlands: Extension of Time Limit for Preliminary Results of Antidumping Duty Administrative Review

AGENCY: Import Administration, International Trade Administration, Department of Commerce.

SUMMARY: The Department of Commerce (the Department) is extending the time limit for the preliminary results of the administrative review of the antidumping duty order on purified carboxymethylcellulose (CMC) from the Netherlands. The period of review is July 1, 2008, through June 30, 2009. This extension is made pursuant to section 751(a)(3)(A) of the Tariff Act of 1930, as amended (the Act).

EFFECTIVE DATE: March 30, 2010.

FOR FURTHER INFORMATION CONTACT: Olga Carter, Edythe Artman, or Angelica Mendoza, Office 7, AD/CVD Operations, Import Administration, International Trade Administration, U.S. Department of Commerce, 14th Street and Constitution Avenue, NW, Washington, DC 20230, telephone: (202) 482-8221, (202) 482-3931, or (202) 482-3019, respectively.

SUPPLEMENTARY INFORMATION:

Background

On August 25, 2009, the Department published in the Federal Register a notice of initiation of the administrative review of the antidumping duty order on purified CMC from the Netherlands. See Initiation of Antidumping and Countervailing Duty Administrative Reviews and Requests for Revocation in Part, 74 FR 42873 (August 25, 2009). This review covers the period July 1, 2008, through June 30, 2009. The preliminary results for this administrative review were scheduled for April 2, 2010. As explained in the memorandum from the Deputy Assistant Secretary (DAS) for Import Administration, the Department has exercised its discretion to toll deadlines for the duration of the closure of the Federal Government from February 5, through February 12, 2010. Thus, all deadlines in this segment of the proceeding have been extended by seven days. The revised deadline for the preliminary results of the administrative review of purified CMC from the Netherlands became April 9, 2010. See Memorandum to the Record from Ronald Lorentzen, DAS for Import Administration, regarding “Tolling of Administrative Deadlines As a Result of the Government Closure During the Recent Snowstorm,” dated February 12, 2010.

Extension of Time Limits for Preliminary Results

Section 751(a)(3)(A) of the Act requires the Department to complete the preliminary results of an administrative review within 245 days after the last day of the anniversary month of an order for which a review is requested. However, if it is not practicable to complete the review within this time period, section 751(a)(3)(A) of the Act allows the Department to extend the 245 day time period for the preliminary results up to 365 days.

The Department has determined it is not practicable to complete this review within the statutory time limit because we require additional time to conduct a sales below-cost investigation of respondent Akzo Nobel Functional Chemicals B.V. (ANFC) and to collect and analyze additional information needed for our preliminary results (e.g., information regarding ANFC as succesor-in-interest of Akzo Nobel Surface Chemistry B.V. and respondent CP Kelco B.V.'s factoring expenses and freight revenue). Accordingly, the Department is extending the time limits for completion of the preliminary results of this administrative review until no later than July 31, 2010, which is 365 days from the last day of the anniversary month of this order. Because July 31, 2010, falls on Saturday, the new deadline for the final results will be next business day, Monday, August 2, 2010. See Notice of Clarification: Application of “Next Business Day” Rule for Administrative Determination Deadlines Pursuant to the Tariff Act of 1930, As Amended, 70 FR 24533 (May 10, 2005). We intend to issue the final results in this review no later than 120 days after publication of the preliminary results.

This notice is issued and published in accordance with sections 751(a)(3)(A) and 777(i) of the Act.

Dated: March 22, 2010.
John M. Andersen,
Acting Deputy Assistant Secretary for Antidumping and Countervailing Duty Operations.

[FR Doc. 2010-7069 Filed 3-29-10; 8:45 am]

BILLING CODE 3510-DS-S